DEPARTMENT OF STATE

[Public Notice 6390]

Shipping Coordinating Committee; Notice of Subcommittee Meeting

The Shipping Coordinating Committee (SHC), through its Subcommittee on the Safety of Life at Sea, will conduct an open meeting at 10 a.m. on Tuesday, November 4, 2008, in Room 2415 of the United States Coast Guard Headquarters Building, 2100 Second Street, SW., Washington, DC 20593-0001. The primary purpose of the meeting is to prepare for the eighty-fifth Session of the International Maritime Organization (IMO) Marine Safety Committee (MSC) to be held at IMO headquarters in London, United Kingdom, from November 26 to December 5, 2008. The primary matters to be considered include:

—Adoption of the agenda

—Decisions of other IMO bodies

—Consideration and adoption of amendments to mandatory instruments

—Measures to enhance maritime security

—Goal-based new ship construction standards

—Long range identification and tracking (LRIT) related matters

—Technical assistance sub-programme in maritime safety and security

—Capacity-building for the implementation of new measures

—Role of the human element

—Formal safety assessment

—Piracy and armed robbery against ships

—General cargo ship safety

—Reports of six subcommittees—Ship design and equipment, Training and Watchkeeping, Radiocommunications and Search and Rescue, Flag State Implementation, Safety of Navigation, Stability, Load Lines and Fishing Vessel Safety, Dangerous Goods, Solid Cargoes and Containers

—Relations with other organizations

—Election of Chairman and Vice-Chairman for 2009

Members of the public may attend this meeting up to the seating capacity of the room. Persons planning to attend this meeting should contact the meeting coordinator, LCDR Jason Smith, not later than 72 hours before the meeting by e-mail at jason.e.smith2@uscg.mil, by phone at (202) 372-1372, by fax at (202) 372-1925, or in writing at Commandant (CG-5212), U.S. Coast Guard Headquarters, 2100 2nd Street, SW., Room 1308, Washington, DC 20593-0001.

The U.S. Coast Guard Headquarters building is accessible by taxi and privately owned conveyance (public transportation is not generally available). Please note, however, that parking in the vicinity of the building is extremely limited. Please also note that due to security considerations, two valid, government issued photo identifications must be presented to gain entrance to the Coast Guard Headquarters building. If you have any questions about this SHC subcommittee meeting, please contact LCDR Jason Smith at the numbers or addresses listed above.

Dated: October 3, 2008.
Mark Skolnicki,
Executive Secretary, Shipping Coordinating Committee, Department of State.

[FR Doc. E8-24336 Filed 10-10-08; 8:45 am]

BILLING CODE 4710-09-P